DEPARTMENT OF THE TREASURY

United States Mint

Pricing for the 2011 American Eagle Silver Proof Coin

AGENCY: United States Mint, Department of the Treasury.

ACTION: Notice.

SUMMARY: The United States Mint is announcing the re-pricing of the 2011 American Eagle Silver Proof Coin. The price of the coins will be raised from $59.95 to $68.45.

FOR FURTHER INFORMATION CONTACT: B.B. Craig, Associate Director for Sales and Marketing; United States Mint; 801 9th Street, NW.; Washington, DC 20220; or call 202-354-7500.

Authority: 31 U.S.C. 5111, 5112 & 9701.

Dated: August 23, 2011.
Richard A. Peterson,
Deputy Director, United States Mint .

[FR Doc. 2011-22046 Filed 8-26-11; 8:45 am]

BILLING CODE P